INTERNATIONAL TRADE COMMISSION

[Investigation No. 337-TA-1443]

Certain Foreign-Fabricated Semiconductor Devices, Products Containing the Same, and Components Thereof; Notice of Commission Determination Not To Review an Initial Determination To Amend the Complaint and Notice of Institution

AGENCY: U.S. International Trade Commission.

ACTION: Notice.

SUMMARY: Notice is hereby given that the U.S. International Trade Commission (“the Commission”) has determined not to review an initial determination (“ID”) (Order No. 34) issued by the presiding administrative law judge (“ALJ”) granting an unopposed motion to amend the complaint and notice of investigation to substitute certain respondents for respondent Lenovo Group Ltd. (“LGL”) and to terminate LGL from the investigation.

FOR FURTHER INFORMATION CONTACT: Carl P. Bretscher, Esq., Office of the General Counsel, U.S. International Trade Commission, 500 E Street SW, Washington, DC 20436, telephone (202) 205-2382. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On March 26, 2025, the Commission instituted the present investigation based on a complaint, as supplemented, filed by Longitude Licensing Ltd. and Marlin Semiconductor Ltd., both of Dublin, Ireland (“Complainants”), alleging violations of section 337 of Tariff Act of 1930, as amended, 19 U.S.C. 1337, due to the unauthorized importation into the United States, sale for importation, or sale in the United States after importation of certain foreign-fabricated semiconductor devices, products containing the same, and components thereof, that allegedly infringe one or more of the asserted claims of U.S. Patent Nos. 7,745,847; 9,093,473; 9,147,747; 9,184,292; and 9,953,880. 90 FR 13779-80 (Mar. 26, 2025). The complaint alleges that a domestic industry exists. Id. The notice of investigation names the following respondents: LGL of Hong Kong S.A.R., China; Taiwan Semiconductor Manufacturing Co. of Hsinchu, Taiwan; Apple Inc. of Cupertino, California; Broadcom Inc. of Palo Alto, California; Motorola (Wuhan) Mobility Technologies Communication Co. of Wuhan, China; Motorola Mobile Communication Technology Ltd. of Xiamen, China; OnePlus Technology (Shenzhen) Co. of Shenzhen, China; and Qualcomm Inc. of San Diego, California. The Office of Unfair Import Investigations (“OUII”) has also been named as a party to this investigation.

On July 1, 2025, Complainants and LGL jointly filed a motion to amend the complaint and notice of investigation to substitute proposed respondents Lenovo (Shanghai) Electronics Technology Co., Ltd. of Shanghai, China; Lenovo PC International Ltd. of Quarry Bay, Hong Kong; Lenovo PC HK Ltd. of Quarry Bay, Hong Kong; Lenovo Information Products (Shenzhen) Co., Ltd. of Shenzhen, Guangdong, China; Lenovo Beijing Co., Ltd. of Beijing, China; and Lenovo (United States) Inc. of Morrisville, North Carolina (collectively “the Lenovo Respondents”) for LGL and to terminate LGL from this investigation. The joint motion certified that OUII did not oppose the motion, and the other respondents took no position.

On July 21, 2025, the presiding ALJ issued the subject ID (Order No. 34) granting the unopposed motion to amend the complaint and notice of institution to substitute the Lenovo Respondents for LGL pursuant to Commission Rule 210.14(b), 19 CFR 210.14(b), and to terminate LGL from the investigation, pursuant to Commission Rule 210.21(a)(1), 19 CFR 210.21(a)(1). The ID finds that good cause exists for substituting the Lenovo Respondents for LGL and for terminating LGL, that there are no other agreements, written or oral, express or implied, between Complainants and LGL regarding the subject matter of the investigation, that granting the motion will not prejudice the public interest or the rights of the parties participating in the investigation, that there are no extraordinary circumstances that would prevent terminating the investigation as to LGL, and that terminating LGL is in the public interest, as it would conserve public and private resources.

No party filed a petition for review of the subject ID.

The Commission has determined not to review, and thereby adopts, the subject ID. Accordingly, the complaint and notice of investigation are amended to include Lenovo (Shanghai) Electronics Technology Co., Ltd.; Lenovo PC International Ltd.; Lenovo PC HK Ltd.; Lenovo Information Products (Shenzhen) Co., Ltd.; Lenovo Beijing Co., Ltd.; and Lenovo (United States) Inc. Lenovo Group Ltd. is hereby terminated from this investigation.

The Commission vote for this determination took place on August 14, 2025.

The authority for the Commission's determination is contained in section 337 of the Tariff Act of 1930, as amended (19 U.S.C. 1337), and in Part 210 of the Commission's Rules of Practice and Procedure (19 CFR part 210).

By order of the Commission.
Issued: August 14, 2025.
Lisa Barton,
Secretary to the Commission.

[FR Doc. 2025-15745 Filed 8-18-25; 8:45 am]

BILLING CODE 7020-02-P